DEPARTMENT OF HEALTH AND HUMAN SERVICES

National Institutes of Health

Center for Scientific Review; Amended Notice of Meeting

Notice is hereby given of a change in the meeting of the Drug Discovery for the Nervous System Study Section, February 27, 2020 to February 28, 2020, 8:00 a.m. to 6:00 p.m., at the Holiday Inn Bayside, 4875 North Harbor Drive San Diego, CA 92106 which was published in the Federal Register on January 31, 2020, 85 FR 5672.

This meeting notice is amended to change the meeting date from February 27-28, 2020 to February 27, 2020. The meeting location and time remain the same. The meeting is closed to the public.

Dated: February 4, 2020.
Tyeshia M. Roberson,
Program Analyst, Office of Federal Advisory Committee Policy.

[FR Doc. 2020-02637 Filed 2-10-20; 8:45 am]

BILLING CODE 4140-01-P